DEPARTMENT OF COMMERCE

International Trade Administration

[A-523-808]

Certain Steel Nails From the Sultanate of Oman: Final Results of Antidumping Duty Administrative Review; 2021-2022

AGENCY: Enforcement and Compliance, International Trade Administration, Department of Commerce.

SUMMARY: The U.S. Department of Commerce (Commerce) determines Oman Fasteners, LLC (Oman Fasteners), the sole producer and exporter subject to this administrative review, made sales of certain steel nails (steel nails) from the Sultanate of Oman (Oman) in the United States at prices below normal value (NV) during the period of review (POR), July 1, 2021, through June 30, 2022.

DATES: Applicable December 11, 2023.

FOR FURTHER INFORMATION CONTACT: Dakota Potts, AD/CVD Operations, Office IV, Enforcement and Compliance, International Trade Administration, U.S. Department of Commerce, 1401 Constitution Avenue NW, Washington, DC 20230; telephone: (202) 482-0223.

SUPPLEMENTARY INFORMATION:

Background

On August 7, 2023, Commerce published the Preliminary Results of this administrative review and we invited interested parties to comment.¹ A summary of the events that occurred since Commerce published the Preliminary Results, as well as a full discussion of the issues raised by parties for these final results, are discussed in the Issues and Decision Memorandum.²

¹ See Certain Steel Nails from the Sultanate of Oman: Preliminary Results of Antidumping Duty Administrative Review and Preliminary Determination of No Shipments; 2021-2022, 88 FR 52120 (August 7, 2023) (Preliminary Results), and accompanying Preliminary Decision Memorandum (PDM).

² See Memorandum, “Issues and Decision Memorandum for the Final Results of the 2021-2022 Administrative Review of the Antidumping Duty Order on Certain Steel Nails from the Sultanate of Oman,” dated concurrently with, and hereby adopted by, this notice (Issues and Decision Memorandum).

Scope of the Order ³

³ See Certain Steel Nails from the Republic of Korea, Malaysia, the Sultanate of Oman, Taiwan, and the Socialist Republic of Vietnam: Antidumping Duty Orders, 80 FR 39994 (July 13, 2015) (Order).

The product covered by this Order is steel nails from Oman. For a complete description of the scope of the Order, see the Issues and Decision Memorandum.

Analysis of Comments Received

All issues raised in the parties' case and rebuttal briefs are addressed in the Issues and Decision Memorandum and are listed in the appendix to this notice. The Issues and Decision Memorandum is a public document and is on-file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on comments received from interested parties regarding our Preliminary Results and our review of the record, we made changes to the preliminary weighted-average dumping margin calculations for Oman Fasteners, as detailed in the Issues and Decision Memorandum.⁴

⁴ See Issues and Decision Memorandum at Comment 2.

Rate for Non-Examined Companies

The Tariff Act of 1930, as amended (the Act), and Commerce's regulations do not address the establishment of a rate to be applied to companies not selected for individual examination when Commerce limits its examination in an administrative review pursuant to section 777A(c)(2) of the Act. Generally, when calculating margins for non-selected respondents, Commerce looks to section 735(c)(5) of the Act for guidance, which provides instructions for calculating the all-others rate in an investigation, for guidance when calculating the rate for companies which we did not examine in an administrative review. When the rates for individually examined companies are all zero, de minimis, or based entirely on facts available, section 735(c)(5)(B) of the Act provides that Commerce may use “any reasonable method” to establish the all-others rate. We calculated a dumping margin of 0.00 percent for the sole mandatory respondent, Oman Fasteners, LLC. Therefore, we assigned the companies not selected for examination a margin of 0.00 percent, the sole margin calculated in this proceeding.⁵

⁵ See Albemarle Corp. & Subsidiaries v. United States, 821 F.3d 1345, 1353 (Fed. Cir. 2016); see also Certain Hot Rolled Steel Flat Products from Japan: Final Results of Antidumping Duty Administrative Review and Final Determination of No Shipments; 2017-2018, 85 FR 57821 (September 16, 2020).

Final Results of Review

As a result of this review, we determine the following estimated weighted-average dumping margins exist for the POR:

Exporter or producer | Weighted-average dumping margin (percent)
Oman Fasteners, LLC | 0.00
Al Ansari Teqmark, LLC | 0.00
Al Kiyumi Global LLC | 0.00
Al Sarah Building Materials LLC | 0.00
Buraimi Iron & Steel, LLC | 0.00
CL Synergy (Pvt) Ltd | 0.00
Diamond Foil Trading LLC | 0.00
Gulf Nails Manufacturing, LLC | 0.00
Gulf Steel Manufacturers, LLC | 0.00
Muscat Industrial Company, LLC | 0.00
Muscat Nails Factory Golden Asset Trade, LLC | 0.00
Omega Global Uluslararasi Tasimacilik Lojistik Ticaret Ltd. Sti | 0.00
WWL Indian Private Ltd | 0.00
All Others | 9.10

Disclosure

Commerce intends to disclose the calculations performed for these final results within five days of the date of publication of this notice in the Federal Register, in accordance with 19 CFR 351.224(b).

Assessment Rates

Commerce has determined, and U.S. Customs and Border Protection (CBP) shall assess, antidumping duties on all appropriate entries of subject merchandise in accordance with these final results of review.⁶ Pursuant to 19 CFR 351.212(b)(1), we calculated importer-specific ad valorem duty assessment rates based on the ratio of the total amount of dumping calculated for the examined sales to the total entered value of the sales for which entered value was reported. Where the respondent's weighted-average dumping margin is zero or de minimis within the meaning of 19 CFR 351.106(c)(1), or an importer-specific assessment rate is zero or de minimis, we will instruct CBP to liquidate the appropriate entries without regard to antidumping duties.

⁶ See 19 CFR 351.212(b).

Commerce's “automatic assessment” practice will apply to entries of subject merchandise during the POR produced by companies included in these final results of review for which the reviewed companies did not know that the merchandise it sold to the intermediary (e.g., a reseller, trading company, or exporter) was destined for the United States. In such instances, we will instruct CBP to liquidate unreviewed entries at the all-others rate if there is no rate for the intermediate company(ies) involved in the transaction.⁷ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁷ For a full discussion of this practice, see Antidumping and Countervailing Duty Proceedings: Assessment of Antidumping Duties, 68 FR 23954 (May 6, 2003).

Cash Deposit Requirements

The following deposit requirements will be effective for all shipments of the subject merchandise entered, or withdrawn from warehouse, for consumption on or after the publication date of the final results of this administrative review, as provided by section 751(a)(2)(C) of the Act: (1) the cash deposit rate for the companies listed above will be equal to the weighted-average dumping margin that is established in the “Final Results of Review”; (2) for previously investigated or reviewed companies not subject to this review, the cash deposit rate will continue to be the company-specific rate published for the most recently completed segment of this proceeding in which the company participated; (3) if the exporter is not a firm covered in this review, a prior review, or the original less-than-fair-value (LTFV) investigation, but the producer is, the cash deposit rate will be the rate established for the most recently completed segment of the proceeding for the producer of the merchandise; and (4) the cash deposit rate for all other producers and exporters will continue to be 9.10 percent ad valorem, the all-others rate established in the LTFV investigation.⁸ These cash deposit requirements, when imposed, shall remain in effect until further notice.

⁸ See Order.

Notification to Importers Regarding the Reimbursement of Duties

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5) and 19 CFR 351.213(h)(1).

Dated: December 4, 2023.
Abdelali Elouaradia,
Deputy Assistant Secretary for Enforcement and Compliance.

Appendix—List of Topics Discussed in the Issues and Decision Memorandum

I. Summary

II. Background

III. Scope of the Order

IV. Changes Since the Preliminary Results

V. Discussion of the Issues

Comment 1: The Appropriate Source for Constructed Value (CV) Profit and Indirect Selling Expenses (ISE)

Comment 2: Whether to Revise Mita's CV ISE Ratio

Comment 3: Whether to Calculate a CV Profit Cap

Comment 4: Whether to Apply Prior Period Costs to Certain U.S. Sales

Comment 5: Whether Commerce's Targeted Dumping Methodology is Unlawful

Comment 6: Whether to Deduct All Section 232 Duties

VI. Recommendation

[FR Doc. 2023-27131 Filed 12-8-23; 8:45 am]

BILLING CODE 3510-DS-P